DEPARTMENT OF LABOR

Veterans' Employment and Training Service

Agency Information Collection Activities: Proposed Collection; Comment Request: Federal Contractor Veterans' Employment Report VETS-100

ACTION: Notice to extend current collection.

SUMMARY: The Department of Labor, as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed.

DATES: Comments are to be submitted by January 3, 2005.

ADDRESSES: Comments are to be submitted to Paul Robertson, Regulatory Specialist, Office of Agency Management and Budget, Veterans' Employment and Training Service, U.S. Department of Labor, Room S-1312, 200 Constitution Ave., NW., Washington, DC 20210. Electronic mail (e-mail) is the preferred method for submitting comments. Comments must be clearly identified as pertaining to this Federal Register notice. E-mail may be sent to robertson.paul@dol.gov. Written comments limited to 10 pages or fewer may also be transmitted by facsimile to (202) 693-4755 (this is not a toll free number). Receipt of submissions, whether by U.S. Mail, e-mail or FAX transmittal, will not be acknowledged; however, the sender may request confirmation that a submission has been received, by telephoning VETS at (202) 693-4719 (VOICE) or (202) 693-4753 (TTY/TDD).

FOR FURTHER INFORMATION CONTACT: Contact Robert Wilson, Division of Investigation and Compliance, Veterans' Employment and Training Service, U.S. Department of Labor, Room S-1312, 200 Constitution Avenue, NW., Washington, DC 20210, or by e-mail at Wilson.Robert@dol.gov.

Copies of the referenced information collection request are available for inspection and copying through the Veterans' Employment and Training Service (VETS) and will be mailed to persons who request copies by telephoning Robert Wilson at (202) 693-4719.

SUPPLEMENTARY INFORMATION:

I. Background

The Federal Contractor Veterans Employment Report VETS-100, as administered by the U.S. Department of Labor, is used to facilitate Federal contractor and subcontractor reporting of their employment and new hiring activity. Employers with Federal contracts awarded before December 1, 2003, are to follow the reporting guidance found in 41 CFR-250. Title 38 U.S.C. 4212 (d) was amended by the Veterans' Employment Opportunities Act on October 31, 1998, and now requires the collection of information from entities holding contracts of $25,000 or more with Federal maximum and minimum number of employees employed by the contractor at each hiring location. Employers with contracts of $25,000 or more that were awarded by the Federal government before December 1, 2003, are required to report the employment of targeted veterans on the VETS-100 Report. Departments or agencies to report annually on (a) the number of current employees in each job category and at each hiring location who are special disabled veterans, the number who are veterans of the Vietnam era, and the number who are other eligible veterans who served on active duty during a war or a campaign or expedition for which a campaign badge has been authorized; (b) the total number of employees hiring during the report period and of those, the number of special disabled, the number who are veterans of the Vietnam era, and the number who are other veterans; and the maximum and minimum number of employees employed by the contractor at each hiring location.

II. Desired Focus of Comments

Currently VETS is soliciting comments concerning the proposed information collection request for the Federal Contractor Veterans' Employment Report VETS-100. The Department of Labor is particularly interested in comments which:

• Evaluate whether the proposed collection of information is necessary for the proper performance of the functions of the agency, including whether the information will have practical utility;

• Evaluate the accuracy of the agency's estimate of the burden of the proposed collection of information; including the validity of the methodology and assumptions used.

• Enhance the quality, utility, and clarity of the information to be collected; and

• Minimize the burden of the collection of information on those who are to respond, including through the use of appropriate automated, electronic, mechanical, or other technological collection techniques or other forms of information technology, e.g., permitting electronic submissions of responses.

III. Current Actions

This notice requests the Office of Management and Budget approval for the paperwork requirements for the Federal Contractor Veterans Employment Report VETS-100.

Type of Review: Regular submission.

Agency: Veterans' Employment and Training Service.

Title: Federal Contractor Veterans' Report VETS-100.

OMB Number: 1293-0005.

Affected Public: Business or other for-profit institutions and not-for-profit institutions.

Total Respondents: 187,755.

Average Time per Response: 30 minutes.

Total Burden Hours: 140,816.

Total Annualized Capital/startup costs: $0.

Comments submitted in response to this notice will be summarized and included in the agency's request for OMB approval of the information collection request. Comments will become a matter of public record.

Dated in Washington, DC, this 25th day of October, 2004.
Frederico Juarbe, Jr.,
Assistant Secretary.

[FR Doc. 04-24306 Filed 10-29-04; 8:45 am]

BILLING CODE 4510-79-P